DEPARTMENT OF LABOR

Employment and Training Administration

[TA-W-62,955]

Pitney Bowes Tech Central Infrastructure & Support Services Danbury, CT; Notice of Affirmative Determination Regarding Application for Reconsideration

By application postmarked June 12, 2008, the petitioners requested administrative reconsideration of the negative determination regarding workers' eligibility to apply for Trade Adjustment Assistance (TAA) and Alternative Trade Adjustment Assistance (ATAA) applicable to workers and former workers of the subject firm. The determination was issued on May 15, 2008. The Notice of Determination was published in the Federal Register on May 29, 2008 (73 FR 30978).

The initial investigation resulted in a negative determination based on the finding that the worker group engaged in information technology technical support, does not produce an article within the meaning of section 222(a)(2) of the Act.

In the request for reconsideration, the petitioners provided additional information regarding activities of the workers at the subject facility. The petitioners stated that workers of the subject firm directly supported production of articles at Pitney Bowes production facilities.

The Department has carefully reviewed the request for reconsideration and determined that the Department will conduct further investigation to determine whether the workers of the subject firm supported production of articles at Pitney Bowes manufacturing facilities and whether these facilities meet the eligibility requirements of the Trade Act of 1974.

Conclusion

After careful review of the application, I conclude that the claim is of sufficient weight to justify reconsideration of the U.S. Department of Labor's prior decision. The application is, therefore, granted.

Signed at Washington, DC, this 15th day of July 2008.
Elliott S. Kushner,
Certifying Officer, Division of Trade Adjustment Assistance.

[FR Doc. E8-16566 Filed 7-18-08; 8:45 am]

BILLING CODE 4510-FN-P